SURFACE TRANSPORTATION BOARD

[Docket No. AB 1009 (Sub-No. 2X)]

Mission Mountain Railroad, L.L.C.—Discontinuance of Service Exemption—in Flathead County, Mont.

On April 1, 2020, Mission Mountain Railroad, L.L.C. (MMT), filed a petition under 49 U.S.C. 10502 for exemption from the prior approval requirements of 49 U.S.C. 10903 to discontinue its operations over approximately 13.33 miles of rail line, extending from milepost 1211.86 at the interchange with the BNSF Railway Company (BNSF) at Columbia Falls to milepost 1225.19 at Kalispell, all in Flathead County, Mont. (the Line). The Line traverses U.S. Postal Service Zip Codes 59901 and 59912.

According to MMT, it provides service on the Line pursuant to a lease agreement with BNSF, the owner of the Line. MMT explains that the lease agreement was due to terminate on March 31, 2020, and that MMT and BNSF have agreed that BNSF will assume direct operation of its line in place of MMT as of April 1, 2020. MMT states that the proposed discontinuance will allow MMT to formally end its common carrier obligations over the Line. In addition, MMT states that no customer on the Line will be left without common carrier service as a consequence of the proposed discontinuance.

MMT states that it believes the Line does not contain any federally granted rights-of-way. MMT also states that any documentation in its possession will be made available to those requesting it.

As a condition to this exemption, any employee adversely affected by the discontinuance of service shall be protected under Oregon Short Line Railroad—Abandonment Portion Goshen Branch Between Firth & Ammon, in Bingham & Bonneville Counties, Idaho, 360 I.C.C. 91 (1979).

By issuance of this notice, the Board is instituting an exemption proceeding pursuant to 49 U.S.C. 10502(b). A final decision will be issued by July 20, 2020.

Because this is a discontinuance proceeding and not an abandonment proceeding, interim trail use/rail banking and public use conditions are not appropriate. Because there will be environmental review during any subsequent abandonment, this discontinuance does not require an environmental review. See 49 CFR 1105.6(c)(5), 1105.8(b).

Any offer of financial assistance (OFA) for subsidy under 49 CFR 1152.27(b)(2) will be due no later than 120 days after the filing of the petition for exemption, or 10 days after service of a decision granting the petition for exemption, whichever occurs sooner.¹ Persons interested in submitting an OFA must first file a formal expression of intent to file an offer by May 1, 2020, indicating the intent to file an OFA for subsidy and demonstrating that they are preliminarily financially responsible. See 49 CFR 1152.27(c)(1)(i).

¹ The filing fee for OFAs can be found at 49 CFR 1002.2(f)(25).

All filings in response to this notice must refer to Docket No. AB 1009 (Sub-No. 2X) and must be filed with the Surface Transportation Board either via e-filing or in writing addressed to 395 E Street SW, Washington, DC 20423-0001. In addition, a copy of each pleading must be served on MMT's representative, Bradon J. Smith, Fletcher & Sippel LLC, 29 North Wacker Drive, Suite 800, Chicago, IL 60606-2832. Replies to this petition are due on or before May 11, 2020.

Persons seeking further information concerning discontinuance procedures may contact the Board's Office of Public Assistance, Governmental Affairs, and Compliance at (202) 245-0238 or refer to the full abandonment and discontinuance regulations at 49 CFR part 1152. Questions concerning environmental issues may be directed to the Board's Office of Environmental Analysis at (202) 245-0305. Assistance for the hearing impaired is available through the Federal Relay Service at (800) 877-8339.

Board decisions and notices are available at www.stb.gov.

Decided: April 15, 2020.
By the Board, Scott M. Zimmerman, Acting Director, Office of Proceedings.
Aretha Laws-Byrum,
Clearance Clerk.

[FR Doc. 2020-08411 Filed 4-20-20; 8:45 am]

BILLING CODE 4915-01-P